DEPARTMENT OF DEFENSE

Department of the Navy

[Docket ID: USN-2019-HQ-0009]

Proposed Collection; Comment Request

AGENCY: Department of the Navy, DoD.

ACTION: Information collection notice.

SUMMARY: In compliance with the Paperwork Reduction Act of 1995, the Department of the Navy announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by May 13, 2019.

ADDRESSES: You may submit comments, identified by docket number and title, by any of the following methods:

Federal eRulemaking Portal: http://www.regulations.gov. Follow the instructions for submitting comments.

Mail: Department of Defense, Office of the Chief Management Officer, Directorate for Oversight and Compliance, 4800 Mark Center Drive, Mailbox #24 Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Office of the Judge Advocate General, Military Personnel Division, Code 61, ATTN: LT Lindsay McCarl, 1322 Patterson Ave. SE, Suite 3000, Washington Navy Yard, DC 20374-5066, or call 202-685-8527.

SUPPLEMENTARY INFORMATION:

Title; Associated Form; and OMB Number: JAG Corps Student Program or Direct Accession Application (online system); OPNAV 1070/3 Internship/Externship Program Application; Structured Interview Questions; OMB Control Number 0703-XXXX.

Needs and Uses: This information requirement is needed to determine the eligibility, competitive standing, and the scholastic and leadership potential of students and lawyers interested in the U.S. Navy Judge Advocate General's Corps (JAGC). The application for the Student Program/Direction Accession and the application for the Internship/Externship Program (OPNAV Form 10703/3) are each accessible via the U.S. Navy JAGC website. Both applications ask for detailed academic and extracurricular achievement, professional experience if applicable, and supporting documentation.

JAGC Student Program Direct Accession Application (Online System)

Affected Public: Individuals or Households.

Annual Burden Hours: 1,600.

Number of Respondents: 800.

Responses per Respondent: 1.

Annual Responses: 800.

Average Burden per Response: 2 hours.

Frequency: On occasion.

Structured Interviews

Affected Public: Individuals or Households.

Annual Burden Hours: 500.

Number of Respondents: 500.

Responses per Respondent: 1.

Annual Responses: 500.

Average Burden per Response: 1 hour.

Frequency: On occasion.

OPNAV 1070/3

Affected Public: Individuals or Households.

Annual Burden Hours: 100.

Number of Respondents: 100.

Responses per Respondent: 1.

Annual Responses: 100.

Average Burden per Response: 1 hour.

Frequency: On occasion.

Total

Annual Burden Hours: 2,200 hours.

Number of Respondents: 900 (the approximately 500 interview respondents are selected from the online system's existing pool of applicants).

Responses per Respondent: 1.556.

Annual Responses: 1,400.

Average Burden per Response: 1.5714 hours.

The online system application is used for both the U.S. Navy JAGC Student Program and Direct Accession Program. The Student Program offers law students an opportunity to apply for a commission to the JAGC. The Direct Accessions Program offers practicing attorneys the opportunity to apply for a commission to the JAGC.

The structured interview is subsequently offered to applicants judged to be most competitive for the JAGC Student Program or Direct Accession Program.

The Internship/Externship Program (OPNAV Form 10703/3), is available throughout the year for programs offered in the summer, fall and spring. The Internship/Externship Program offers law students the opportunity to intern with the JAGC while in law school.

Dated: March 6, 2019.
Aaron T. Siegel,
Alternate OSD Federal Register, Liaison Officer, Department of Defense.

[FR Doc. 2019-04393 Filed 3-11-19; 8:45 am]

BILLING CODE P